DEPARTMENT OF VETERANS AFFAIRS

Geriatrics and Gerontology Advisory Committee; Notice of Meeting

The Department of Veterans Affairs (VA) gives notice under Public Law 92-463 (Federal Advisory Committee Act) that a meeting of the Geriatrics and Gerontology Advisory Committee (GGAC) will be held on Tuesday, September 24, 2002, at the Department of Veterans Affairs Central Office, 810 Vermont Avenue, NW., Room 528, Washington, DC. The meeting will convene at 8:30 a.m. and conclude at 5 p.m. The meeting is open to the public.

The purpose of the Committee is to provide advice on VA issues related to geriatrics and gerontology thereby enhancing services and programs available to aging veterans.

The topics to be presented/discussed include:

• Site visit to Geriatric Research, Education, and Clinical Centers (GRECCS)

• Update on current issues of the Millennium Act

• Geriatrics and Extended Care Initiatives

• Status of Geriatric Fellowship Program

• Update on Aging Research in VA

Individuals who wish to attend the meeting should contact Ms. Jacqueline Holmes, Staff Assistant, Geriatrics and Extended Care Strategic Healthcare Group, at (202) 273-8539.

Dated: September 12, 2002.
By Direction of the Secretary.
Ronald R. Aument,
Deputy Chief of Staff.

[FR Doc. 02-23785 Filed 9-18-02; 8:45 am]

BILLING CODE 8320-01-M